NATIONAL TRANSPORTATION SAFETY BOARD

Sunshine Act Meeting

AGENDA

TIME AND DATE: 9:30 a.m., Tuesday, June 18, 2013.

PLACE: NTSB Conference Center, 429 L'Enfant Plaza SW., Washington, DC 20594.

STATUS: The one item is open to the public.

MATTERS TO BE CONSIDERED:

8431B Railroad Accident Report—Head-on Collision of Two Union Pacific Railroad Company Freight Trains near Goodwell, Oklahoma, June 24, 2012 (DCA-12-MR-005)

NEWS MEDIA CONTACT: Telephone: (202) 314-6100.

The press and public may enter the NTSB Conference Center one hour prior to the meeting for set up and seating.

Individuals requesting reasonable accommodations should contact Rochelle Hall at (202) 314-6305 or by email at Rochelle.Hall@ntsb.gov by Friday, May 14, 2013.

The public may view the meeting via a live or archived webcast by accessing a link under “News & Events” on the NTSB home page at www.ntsb.gov.

Schedule updates including weather-related cancellations are also available at www.ntsb.gov.

FOR FURTHER INFORMATION CONTACT: Candi Bing, (202) 314-6403 or by email at bingc@ntsb.gov.

FOR MEDIA INFORMATION CONTACT: Terry Williams, at (202) 314-6100 or by email at williat@ntsb.gov.

Dated: May 31, 2013.
Candi R. Bing,
Federal Register Liaison Officer.

[FR Doc. 2013-13337 Filed 5-31-13; 4:15 pm]

BILLING CODE 7533-01-P